DEPARTMENT OF TRANSPORTATION

Federal Aviation Administration

Advisory Circular (AC) 23-22, Guidance for Approved Model List (AML) Supplemental Type Certificate (STC) Approval of Part 23 Airplane Avionics Installations

AGENCY: Federal Aviation Administration, DOT.

ACTION: Notice of issuance of advisory circular.

SUMMARY: This notice announces the issuance of Advisory Circular (AC) 23-22. This advisory circular (AC) sets guidelines for using the Approved Model List (AML) Supplemental Type Certificate (STC) process for the installation approval of avionics for 14 CFR, part 23 airplanes. It also applies to airplanes certified under a prior certification basis, such as CAR 3 or bulletin 7-A. Guidance provided in this AC applies only to avionics installations using the AML STC process. For other types of modifications to part 23 airplanes seeking to use the AML STC process, the Aircraft Certification Office (ACO) should coordinate with the Small Airplane Directorate. Avionics AML STC guidance provided in this AC addresses the following: (1) Avionics eligible for the AML STC process, (2) Model Qualification Process used by the STC holder and the FAA to either create or edit the AML, and (3) Level of Detail required for the installation instructions for an AML STC, including a list of acceptable equipment that can be integrated under the STC.

Material in this AC is neither mandatory nor regulatory in nature and does not constitute a regulation. In addition, this material is not to be construed as having any legal status and should be treated accordingly. However, it is designed to provide standardization guidelines for AML STC approvals. The AML STC process may be used whenever the ACO and the applicant agree that it is suitable. This AC is not applicable to any products certified under part 25, 27, or 29.

The draft advisory circular was issued for Public Comment on October 8, 2004 (69 FR 60452). When possible, comments received were used to modify the draft advisory circular.

DATES: Advisory Circular (AC) 23-22 was issued by the Manager, Small Airplane Directorate on January 27, 2005.

How To Obtain Copies: A paper copy of AC 23-22 may be obtained by writing to the U.S. Department of Transportation, Subsequent Distribution Office, DOT Warehouse, SVC-121.23, Ardmore East Business Center, 3341Q 75th Avenue, Landover, MD 20785, telephone 301-322-5377, or by faxing your request to the warehouse at 301-386-5394. The AC will also be available on the Internet at http://www.airweb.faa.gov/AC.

Issued in Kansas City, Missouri on January 27, 2005.
David R. Showers,
Acting Manager, Small Airplane Directorate, Aircraft Certification Service.

[FR Doc. 05-2802 Filed 2-11-05; 8:45 am]

BILLING CODE 4910-13-P